DEPARTMENT OF ENERGY

Federal Energy Regulatory Commission

Combined Notice of Filings #1

Take notice that the commission received the following accounting Request filings:

Docket Numbers: AC25-108-000.

Applicants: Consumers Energy Company.

Description: Consumers Energy Company submits proposed accounting entries reflecting its sale of progress street substation assets located in Michigan to Alpena Power Company.

Filed Date: 6/5/25.

Accession Number: 20250605-5160.

Comment Date: 5 p.m. ET 6/26/25.

Take notice that the Commission received the following electric corporate filings:

Docket Numbers: EC25-96-000.

Applicants: Camden Plant Holding, L.L.C., Dartmouth Power Associates Limited Partnership.

Description: Joint Application for Authorization Under Section 203 of the Federal Power Act of Camden Plant Holding, L.L.C, et al.

Filed Date: 6/4/25.

Accession Number: 20250604-5170.

Comment Date: 5 p.m. ET 6/25/25.

Take notice that the Commission received the following electric rate filings:

Docket Numbers: ER10-3050-015; ER10-3053-015.

Applicants: Whitewater Hill Wind Partners, LLC, Cabazon Wind Partners, LLC.

Description: Supplement to 12/30/2024, Triennial Market Power Analysis for Southwest Region of Cabazon Wind Partners, LLC, et al.

Filed Date: 6/3/25.

Accession Number: 20250603-5185.

Comment Date: 5 p.m. ET 6/17/25.

Docket Numbers: ER19-968-005; ER19-967-004; ER11-4634-011; ER15-1457-011; ER15-748-008; ER15-1456-011; ER19-464-004; ER11-2335-019.

Applicants: Dynegy Services Plum Point, LLC, Vermillion Power, L.L.C., Beaver Falls, L.L.C., Garrison Energy Center LLC, Syracuse, L.L.C., Hazleton Generation LLC, Fairless Energy, L.L.C., Manchester Street, L.L.C.

Description: Supplement to June 30, 2023, Triennial Market Power Analysis for Northeast Region of Plum Point Services Company, LLC, et al.

Filed Date: 5/30/25.

Accession Number: 20250530-5507.

Comment Date: 5 p.m. ET 6/20/25.

Docket Numbers: ER22-2703-004.

Applicants: Pattern Energy Management Services LLC.

Description: Supplement to June 28, 2024, Triennial Market Power Analysis for Central Region of Pattern Energy Management Services LLC.

Filed Date: 5/28/25.

Accession Number: 20250528-5247.

Comment Date: 5 p.m. ET 6/18/25.

Docket Numbers: ER25-2182-000; ER25-2184-000.

Applicants: Energy Prepay IX, LLC, Energy Prepay VIII, LLC.

Description: Supplement to May 8, 2025, Energy Prepay VIII, LLC, et al. tariff filing.

Filed Date: 6/4/25.

Accession Number: 20250604-5172.

Comment Date: 5 p.m. ET 6/16/25.

Docket Numbers: ER25-2429-000.

Applicants: Northern States Power Company, a Minnesota corporation.

Description: § 205(d) Rate Filing: 2025-06-04 NSP-BUF FSA to be effective 6/5/2025.

Filed Date: 6/4/25.

Accession Number: 20250604-5148.

Comment Date: 5 p.m. ET 6/25/25.

Docket Numbers: ER25-2430-000.

Applicants: Southwest Power Pool, Inc.

Description: § 205(d) Rate Filing: Submission of Tariff Revisions to Implement the Provisional Load Process (RR672) to be effective 8/4/2025.

Filed Date: 6/4/25.

Accession Number: 20250604-5154.

Comment Date: 5 p.m. ET 6/25/25.

Docket Numbers: ER25-2431-000.

Applicants: PacifiCorp.

Description: Tariff Amendment: Termination of NTUA Const Agmt Red Mesa Affected System (RS No. 756) to be effective 8/8/2025.

Filed Date: 6/5/25.

Accession Number: 20250605-5023.

Comment Date: 5 p.m. ET 6/26/25.

Docket Numbers: ER25-2432-000.

Applicants: PJM Interconnection, L.L.C.

Description: § 205(d) Rate Filing: Amendment to ISA, Service Agreement No. 6956; Queue No. AE2-181 to be effective 8/5/2025.

Filed Date: 6/5/25.

Accession Number: 20250605-5031.

Comment Date: 5 p.m. ET 6/26/25.

Docket Numbers: ER25-2433-000.

Applicants: Southwest Power Pool, Inc.

Description: § 205(d) Rate Filing: 2142R7 Golden Spread Electric Cooperative, Inc. NITSA to be effective 6/1/2025.

Filed Date: 6/5/25.

Accession Number: 20250605-5045.

Comment Date: 5 p.m. ET 6/26/25.

Docket Numbers: ER25-2434-000.

Applicants: Northern Indiana Public Service Company LLC.

Description: § 205(d) Rate Filing: Four Corners CIAC Agreement to be effective 5/5/2025.

Filed Date: 6/5/25.

Accession Number: 20250605-5066.

Comment Date: 5 p.m. ET 6/26/25.

Docket Numbers: ER25-2435-000.

Applicants: Tri-State Generation and Transmission Association, Inc.

Description: § 205(d) Rate Filing: Amendment to Rate Schedule No. 3 and Rate Schedule No. 11 to be effective 11/17/2021.

Filed Date: 6/5/25.

Accession Number: 20250605-5161.

Comment Date: 5 p.m. ET 6/26/25.

Take notice that the Commission received the following electric reliability filings:

Docket Numbers: RD25-8-000.

Applicants: North American Electric Reliability Corporation.

Description: Petition of the North American Electric Reliability Corporation for Approval of Proposed Reliability Standard CIP-002-8.

Filed Date: 12/20/24.

Accession Number: 20241220-5509.

Comment Date: 5 p.m. ET 7/7/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: June 5, 2025.
Carlos D. Clay,
Deputy Secretary.

[FR Doc. 2025-10563 Filed 6-10-25; 8:45 am]

BILLING CODE 6717-01-P